DEPARTMENT OF HEALTH AND HUMAN SERVICES

Administration for Children and Families

Proposed Information Collection Activity; Comment Request

Proposed Projects

Title: TANF Time Limits Interview Guides for Site Visits.

OMB No.: New Collection.

Description: The imposition of federally imposed time limits on the receipt of cash assistance under the Temporary Assistance to Needy Families (TANF) program was a central part of welfare reform. The Task Order on Temporary Assistance to Needy Families (TANF) Separate State Programs, Time Limits and Participation Requirements seeks to understand how states have implemented TANF time limits and what effects they have had on families receiving TANF. It provides an update to a previous TANF time limits study now that most states now have had several years of experience with the 60-month time limit under varying economic conditions. The project draws on qualitative research conducted through eight site visits as well as quantitative reserach using state administrative records.

The site visits will include interviews with state TANF administrators, local TANF office managers, and TANF caseworkers. The interviews will be used to understand what decisions state administrators made in designing time limit policies and how local managers and line workers implement these decisions on a daily basis. The interview guides will focus on the following topics: The basic time limit policies in each state, how information is communicated to families reaching time limits, what the process is for cases approaching time limits, under what circumstances families can continue to receive TANF benefits beyond the time limits, and whether there is any follow-up with families that have reached time limits.

The quantitative research will draw on administrative records that states routinely report to ACF. However, in some cases, it may be necessary to conduct follow-up calls to state TANF officials to ask questions about the data. In addition, in states that only report data on subs samples of TANF families to ACF, it may be necessary to request additional information that is maintained in reports that states produce for their own internal management purposes.

Respondents: The respondents for the site visits will include state TANF administrators, local TANF office administrators, and caseworkers in eight states. An average of two local welfare offices will be visited in each state. The states will be selected based on the following criteria: (1) States with large TANF caseloads; (2) states with smaller TANF caseloads where a substantial number of families have reached time limits; and (3) states that make extensive use of segregated funds or separate state programs. In addition, the study will focus on states where little prior research has been conducted.

The respondents for the questions on administrative records will include state TANF officials who are knowledgeable about administrative data. It is estimated that calls will be made to 25 states.

The annual burden estimates are detailed below, and the substantive content of each survey will be detailed in the supporting statement attached to the forthcoming 30-day notice.

Annual Burden Estimates
Instrument | Number of respondents | Number of responses per respondent | Average burden hours per response | Total burden hours
Interview guide for state administrators | 8 | 1 | 90 minutes or 1.5 hrs | 12
Interview guide for local office managers | 16 | 1 | 60 minutes or 1 hr | 16
Interview guide for case workers | 64 | 1 | 60 minutes or 1 hr | 64
Questions on state administrative data | 25 | 1 | 60 minutes or 1 hour | 25

Estimated Total Annual Burden Hours: 117.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 5, 2005.
Robert Sargis,
Reports Clearance Officer.

[FR Doc. 05-23910 Filed 12-9-05; 8:45 am]

BILLING CODE 4184-01-M